DEPARTMENT OF COMMERCE

International Trade Administration

[A-580-878]

Certain Corrosion-Resistant Steel Products From the Republic of Korea: Final Results of Antidumping Duty Administrative Review; 2016-2017

AGENCY: Enforcement and Compliance, International Trade Administration, Department of Commerce.

SUMMARY: The Department of Commerce (Commerce) determines that Dongkuk Steel Mill Co., Ltd. (Dongkuk) made sales of certain corrosion-resistant steel products (CORE) from the Republic of Korea (Korea) at less than normal value, and Hyundai Steel Company (Hyundai) did not, during the period of review (POR), January 4, 2016, through June 30, 2017.

DATES: Applicable March 22, 2019.

FOR FURTHER INFORMATION CONTACT: Lingjun Wang or Elfi Blum-Page, AD/CVD Operations, Office VII, Enforcement and Compliance, International Trade Administration, U.S. Department of Commerce, 1401 Constitution Avenue NW, Washington, DC 20230; telephone: 202-482-2316 or at 202-482-0197, respectively.

SUPPLEMENTARY INFORMATION:

Background

Commerce published the Preliminary Results on August 10, 2018.¹ On February 7, 2019, Commerce determined that a cost-based particular market situation existed with respect to the production cost of CORE in Korea during the POR.² For a history of events that occurred since the Preliminary Results, see the Issues and Decision Memorandum.³ On November 19, 2018, Commerce postponed the final results of this review until February 6, 2019.⁴ As a result of the partial government shutdown, the deadline for the final results of this review was revised to March 18, 2019.⁵

¹ See Corrosion-Resistant Steel Products from the Republic of Korea: Preliminary Results of Antidumping Duty Administrative Review; 2016-2017, 83 FR 39666 (August 10, 2018) (Preliminary Results) and accompanying Preliminary Decision Memorandum (PDM).

² See Commerce February 7, 2019 Memorandum re: Post-Preliminary Decision Memorandum on Particular Market Situation Allegation (PMS Memorandum).

³ See Memorandum re: Issues and Decision Memorandum for the Final Results of Antidumping Duty Administrative Review of Corrosion-Resistant Steel Products from the Republic of Korea; 2016-2017 (Issues and Decision Memorandum, or IDM), dated concurrently with, and hereby adopted by, this notice.

⁴ See Commerce November 19, 2018 Memorandum re: Extension of Deadline for the Final Results of Antidumping Duty Administrative Review; 2016-2017.

⁵ See Commerce January 28, 2019 Memorandum re: Deadlines Affected by the Partial Shutdown of the Federal Government. All deadlines in this segment of the proceeding affected by the partial federal government closure have been extended by 40 days.

Scope of the Order

The products covered by this order are certain corrosion-resistant steel products. For a complete description of the scope of this order, see attachment to the Issues and Decision Memorandum.

Analysis of Comments Received

All issues raised in the case and rebuttal briefs by parties are addressed in the IDM, which is hereby adopted by this notice. The issues are identified in the Appendix to this notice. The IDM is a public document and is on-file electronically via Enforcement and Compliance's Antidumping and Countervailing Duty Centralized Electronic Service System (ACCESS). ACCESS is available to registered users at https://access.trade.gov and in the Central Records Unit (CRU), Room B8024 of the main Commerce building. In addition, a complete version of the IDM can be accessed at http://enforcement.trade.gov/frn/index.html. The signed IDM and the electronic versions of the IDM are identical in content.

Changes Since the Preliminary Results

Based on our review of the record and comments received from interested parties, we made certain revisions to the preliminary margin calculations for Dongkuk and Hyundai.⁶

⁶ See Dongkuk's and Hyundai's Final Calculation Memorandum, dated March 18, 2019.

Final Results of the Administrative Review

We have determined the following weighted-average dumping margins for the exporters or producers listed below for the POR: ⁷

⁷ For POSCO and Dongbu Steel Co, Ltd. which were not selected for individual review, we assign a rate based on the rates for the respondents that were selected for individual review, excluding rates that are zero, de minimis or based entirely on facts available. See section 735(c)(5)(A) of the Act.

Exporter/producer | Weighted- average dumping margin (percent)
Dongkuk Steel Mill Co., Ltd | 7.33
Dongbu Steel Co., Ltd | 7.33
Hyundai Steel Company | 0.00
POSCO | 7.33

Assessment Rates

Pursuant to section 751(a)(2)(A) of the Tariff Act of 1930, as amended (the Act), and 19 CFR 351.212(b)(1), Commerce will determine, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

For entries of subject merchandise during the POR produced by each respondent for which it did not know its merchandise was destined for the United States, we will instruct CBP to liquidate such entries at the all-others rate if there is no rate for the intermediate company(ies) involved in the transaction. We intend to issue liquidation instructions to CBP 15 days after publication of the final results of this review.

Cash Deposit Requirements

The following cash deposit requirements will be effective upon publication of the notice of final results of administrative review for all shipments of subject merchandise entered, or withdrawn from warehouse, for consumption on or after the date of publication, as provided by section 751(a)(2) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 8.31 percent, the all-others cash deposit rate established in the investigation.⁸ These cash deposit requirements, when imposed, shall remain in effect until further notice.

⁸ See Certain Corrosion-Resistant Steel Products from India, Italy, the People's Republic of China, the Republic of Korea and Taiwan: Amended Final Affirmative Antidumping Determination for India and Taiwan, and Antidumping Duty Orders, 81 FR 48390 (July 25, 2016), as amended by Certain Corrosion-Resistant Steel Products from the Republic of Korea: Notice of Court Decision Not in Harmony with Final Determination of Investigation and Notice of Amended Final Results, 83 FR 39054 (August 8, 2018).

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3). Timely written notification of the return or destruction of APO materials, or conversion to judicial protective order, is hereby requested. Failure to comply with the regulations and the terms of an APO is a sanctionable violation.

We are issuing and publishing this notice in accordance with sections 751(a)(1) and 777(i) of the Act and 19 CFR 351.221(b)(5).

Dated: March 19, 2019.
Christian Marsh,
Deputy Assistant Secretary for Enforcement and Compliance.

Appendix

List of Topics Discussed in the Final IDM

I. Summary

II. List of Comments

III. Background

IV. Scope of the Order

V. Changes Since the Preliminary Results

VI. Discussion of the Comments

General Comment

Comment 1: Whether a Cost-Based Particular Market Situation Exists in Korea

Dongkuk Steel Mill Co., Ltd. (Dongkuk) Comments

Comment 2: Whether Dongkuk is Affiliated with POSCO

Comment 3: Whether Commerce Should Apply Adverse Facts Available (AFA) to Dongkuk Because it Failed to Report Certain Information Related to POSCO

Comment 4: Whether to Adjust the Price of Dongkuk's Purchases from JFE Steel Corporation

Comment 5: Whether to Apply AFA to Freight Provided by Dongkuk's Affiliated Provider

Comment 6: Whether to Grant a Constructed Export Price (CEP) Offset to Dongkuk

Hyundai Steel Company (Hyundai) Comments

Comment 7: Whether Commerce Should Apply Total AFA to Hyundai

Comment 8: Whether Hyundai Overallocated U.S. Price to the CORE Input of its Sales of After-Service Auto Parts

Comment 9: Whether Hyundai Withheld CONNUM-Specific Costs and Submitted Aberrational Cost Data

Comment 10: Whether Hyundai Withheld Other Information Requested by Commerce

Comment 11: Whether a Close Supplier Relationship Exists between Hyundai's Captive, Intermediate Processors and the Hyundai Group, Thereby Creating Artificial U.S. Prices

Comment 12: Whether Commerce Should Continue to Apply Partial AFA to Hyundai

Comment 13: Whether Commerce Should Use Hyundai's Manufacturer Variable

Comment 14: Whether Commerce Should Grant a CEP Offset to Hyundai

Comment 15: Whether Commerce Should Use Hyundai's Customer-Specific Warranty Expenses

VII. Recommendation

[FR Doc. 2019-05523 Filed 3-21-19; 8:45 am]

BILLING CODE 3510-DS-P